DEPARTMENT OF THE INTERIOR

Office of the Secretary

List of Programs Eligible for Inclusion in Fiscal Year 2002 Annual Funding Agreements To Be Negotiated With Self-Governance Tribes by Interior Bureaus Other Than the Bureau of Indian Affairs

AGENCY: Office of the Secretary, Interior.

ACTION: Notice.

SUMMARY: This notice lists programs or portions of programs that are eligible for inclusion in Fiscal Year 2002 annual funding agreements with self-governance tribes and lists programmatic targets for each of the non-BIA bureaus, pursuant to section 405(c)(4) of the Tribal Self-Governance Act.

DATES: This notice expires on September 30, 2002.

ADDRESSES: Inquiries or comments regarding this notice may be directed to the Office of Self-Governance (MS-2542, MIB), 1849 C Street NW., Washington, DC 20240-0001. Telephone (202) 219-0240 or to the bureau points of contact listed below.

SUPPLEMENTARY INFORMATION:

I. Background

Title II of the Indian Self-Determination and Education Assistance Act Amendments of 1994 (Pub. L. 103-413, the “Self-Governance Act” or the “Act”) instituted a permanent tribal self-governance program at the Department of the Interior (DOI). Under the self-governance program certain programs, services, functions, and activities, or portions thereof, in Interior bureaus other than BIA are eligible to be planned, conducted, consolidated, and administered by a self-governance tribal government.

Under section 405(c) of the Self-Governance Act, the Secretary of the Interior is required to publish annually: (1) A list of non-BIA programs, services, functions, and activities, or portions thereof, that are eligible for inclusion in agreements negotiated under the self-governance program; and (2) programmatic targets for these bureaus.

Under the Self-Governance Act, two categories of non-BIA programs are eligible for self-governance funding agreements:

(1) Under section 403(b)(2) of the Act, any non-BIA program, service, function or activity that is administered by Interior that is “otherwise available to Indian tribes or Indians,” can be administered by a tribal government through a self-governance agreement. The Department interprets this provision to authorize the inclusion of programs eligible for self-determination contracting under Title I of the Indian Self-Determination and Education Assistance Act (Pub. L. 93-638). Section 403(b)(2) also specifies that “nothing in this subsection may be construed to provide any tribe with a preference with respect to the opportunity of the tribe to administer programs, services, functions and activities, or portions thereof, unless such preference is otherwise provided for by law.”

(2) Under section 403(c) of the Act, the Secretary may include other programs, services, functions, and activities, or portions thereof, that are of “special geographic, historical, or cultural significance” to a self-governance tribe.

Under section 403(k) of the Self-Governance Act, annual agreements cannot include programs, services, functions, or activities that are inherently Federal or where the statute establishing the existing program does not authorize the type of participation sought by the tribe. However, a tribe (or tribes) need not be identified in the authorizing statutes in order for a program or element to be included in a self-governance agreement. While general legal and policy guidance regarding what constitutes an inherently Federal function exists, we will determine whether a specific function is inherently Federal on a case-by-case basis considering the totality of circumstances.

Response to Comments

The Department provided the proposed list to the Self-Governance Tribes at the semi-annual Tribal Self-Governance Fall Conference held in Nashville, Tennessee on October 10-12, 2000. No comments were received. Several minor editorial and technical change provided by Interior's bureaus were incorporated.

II. Annual Funding Agreements Between Self-Governance Tribes and Non-BIA Bureaus of the Department of the Interior

A. Bureau of Land Management (none)

B. Bureau of Reclamation (3)

Gila River Indian Community (since FY 1996)

Chippewa Cree-Rocky Boy Reservation (since FY 1999)

Karuk Tribe of California (since FY 1999)

C. Minerals Management Service (none)

D. National Park Service (1)

Grand Portage Band of Lake Superior Chippewa Indians (since FY 1999)

E. Office of Surface Mining and Reclamation Enforcement (none)

F. U.S. Fish and Wildlife Service (none)

G. U.S. Geological Survey (none)

III. Eligible Programs of the Department of the Interior non-BIA Bureaus

Below is a listing by bureau of the types of non-BIA programs, or portions thereof, that may be eligible for self-governance annual funding agreements because they are either “otherwise available to Indians” under Title I and not precluded by any other law, or may have “special geographic, historical, or cultural significance” to a participating tribe. The lists represent the most current information on programs potentially available to Tribes under a Self-Governance agreement.

The Department will also consider for inclusion in annual funding agreements other programs or activities not included below, but which, upon request of a self-governance tribe, the Department determines to be eligible under either sections 403(b)(2) or 403(c) of the Act. Tribes with an interest in such potential agreements are encouraged to begin discussions with the appropriate non-BIA bureau.

A. Eligible Programs of the Bureau of Land Management (BLM)

BLM management responsibilities cover a wide range of areas, such as recreational activities, timber, range and minerals management, wildlife habitat management and watershed restoration. In addition, BLM is responsible for the survey of certain Federal and tribal lands. Two programs provide tribal services: (1) Tribal and allottee minerals management; and (2) Survey of tribal and allottee lands.

BLM carries out some of its activities in the management of public lands through contracts and cooperative agreements. These and other activities, dependent upon availability of funds, the need for specific services, and the Self-Governance tribe demonstrating a special geographic, cultural, or historical connection, may also be available for inclusion in self-governance agreements. Once a tribe has made initial contact with BLM, more specific information will be provided by the respective BLM State office.

Tribal Services

1. Cadastral Survey. Tribal and allottee cadastral survey services are already available for contracts under Title I of the Act and therefore may be available for inclusion in an annual funding agreement.

2. Minerals Management. Inspection and enforcement of Indian oil and gas operations, and inspection, enforcement and production verification of Indian coal and sand and gravel operations: Are already available for contracts under Title I of the Act and therefore may be available for inclusion in an annual funding agreement.

Other Activities

1. Cultural Heritage. Cultural heritage activities, such as research and inventory, may be available in specific States.

2. Forestry Management. Activities, such as environmental studies, tree planting, thinning and similar work, may be available in specific States.

3. Range Management. Activities, such as re-vegetation, noxious weed control, fencing, construction and maintenance of range improvements, grazing management experiments, range monitoring, and similar activities, may be available in specific States.

4. Riparian Management. Activities, such as facilities construction, erosion control, rehabilitation, and similar activities, may be available in specific States.

5. Recreation Management. Activities, such as facilities construction and maintenance, interpretive design and construction, and similar activities, may be available in specific States.

6. Wildlife and Fisheries Habitat Management. Activities, such as construction and maintenance, interpretive design and construction, habitat protection and improvement projects, and similar activities, may be available in specific States.

7. Wild Horse Management. Activities such as wild horse round ups, removal, and disposition, including operation and maintenance of wild horse facilities may be available in specific States.

The above programs under “Other Activities” are available in many states for competitive contracting. However, if they are of special geographic, historical or cultural significance to a participating Self-Governance tribe, they may be available for annual funding agreements. Tribes may also discuss additional BLM-funded activities with the relevant State office in relation to negotiating specific self-governance agreements.

For questions regarding Indian Self-Governance, contact Jerry Cordova, Bureau of Land Management, 1849 C Street NW., Washington, DC 20240-0001, telephone: (202) 452-7756, tax: (202) 452-7701. General information on all contracts available in a given year through the BLM can be obtained from the BLM National Business Center, P.O. Box 25047, Bldg. 50, Denver Federal Center, Denver, CO 80225-0047.

B. Eligible Programs of the Bureau of Reclamation

Reclamation operates a wide range of water resource management projects for irrigation, hydroelectric power generation, municipal and industrial water supplies, flood control, outdoor recreation, enhancement of fish and wildlife habitats, and research. Most of Reclamation's activities involve construction, operations and maintenance, and management of water resources projects and associated facilities. Components of the following water resource management and construction projects may be eligible for self-governance agreements.

1. Yakima River Basin Water Enhancement Program WA

2. Klamath Project—CA, OR

3. Trinity River Restoration Program—CA

4. Central Valley Project (Trinity Division)—CA

5. Newlands Project—NV, CA

6. Washoe Project—NV, CA

7. Colorado River Front Work/Levee System—AZ, CA, NV

8. Lower Colorado Indian Water Management Study—AZ, CA, NV

9. Yuma Area Projects—AZ, CA

10. Central Arizona Project—AZ, NM

11. Middle Rio Grande Project—NM

12. Indian Water Rights Settlement Projects—as Congressionally authorized.

For questions regarding self-governance contact Barbara White, Reclamation Self-Governance Coordinator, Native American Affairs Office, Bureau of Reclamation (W-6100), 1849 C Street NW., Washington, DC 20240-0001, telephone: (202) 208-4733, fax: (202) 208-6688.

C. Eligible Programs of the Minerals Management Service (MMS)

MMS provides stewardship of America's offshore resources and collects revenues generated from mineral leases on Federal and Indian lands. MMS is responsible for the management of the Federal Outer Continental Shelf, which are submerged lands off the coasts that have significant energy and mineral resources. Within the offshore minerals management program, environmental impact assessments and statements, and environmental studies, may be available if a self-governance tribe demonstrates a special geographic, cultural, or historical connection.

MMS also offers mineral-owning tribes other opportunities to become involved in MMS's Royalty Management Program functions. These programs address the intent of Indian self-governance but are available regardless of self-governance intentions or status and are a good prerequisite for assuming other technical functions. Generally, royalty management programs are available to self-governance tribes are as follows:

1. Audit of tribal royalty payments. Audit activities for tribal leases, except for the issuance of orders, final valuation decisions, and other enforcement activities. (For tribes already participating in MMS delegated audits, this program is offered as an optional alternative.)

2. Verification of tribal royalty payments. Financial compliance verification and monitoring activities, production verification, and appeals research and analysis.

3. Tribal royalty reporting, accounting and data management. Establishment and management of royalty reporting and accounting systems including document processing, production reporting, reference data (lease, payor, agreement) management, billing and general ledger.

4. Tribal royalty valuation. Preliminary analysis and recommendations for valuation and allowance determinations and approvals.

5. Royalty Management of Allottee Leases. Royalty management of allottee leases.

6. Online monitoring of royalties and accounts. Online computer access to reports, payments, and royalty information contained in MMS accounts. MMS will install equipment at tribal locations, train tribal staff, and assist tribe in researching and monitoring all payments, reports, accounts, and historical information regarding their leases.

7. Royalty Internship Program. A new orientation and training program for auditors and accountants from mineral producing tribes to acquaint tribal staff with royalty laws, procedures, and techniques. This program is recommended for tribes that are considering a self-governance agreement but have not yet acquired mineral revenue expertise via a FOGRMA section 202 contract.

For questions regarding self-governance contact Joan Killgore, Royalty Liaison Office, Minerals Management Service (MS-4241), 1849 C Street NW., Washington, DC 20240-0001, telephone: (202) 208-3512, fax: (202) 208-3982.

D. Eligible Programs of the National Park Service (NPS)

The National Park Service administers the National Park System made up of national parks, monuments, historic sites, battlefields, seashores, lake shores and recreation areas. NPS maintains the park units, protects the natural and cultural resources, and conducts a range of visitor services such as law enforcement, park maintenance, and interpretation of geology, history, and natural and cultural resources.

Some elements of these programs may be eligible for inclusion in a self-governance annual funding agreement. The listing below was developed considering the geographic proximity to, and/or traditional association of a self-governance annual funding agreement. This listing is not all inclusive, but is representative of the types of programs which may be eligible for tribal participation through annual funding agreements.

1. Ongoing Programs and Activities. Components of the following programs are potentially eligible for inclusion in a self-governance annual funding agreement.

a. Archeological surveys

b. Comprehensive management planning

c. Cultural resource management projects

d. Ethnographic studies

e. Erosion control

f. Fire protection

g. Hazardous fuel reduction

h. Housing construction and rehabilitation

i. Gathering baseline subsistence data—AK

j. Janitorial services

k. Maintenance

l. Natural resource management projects

m. Range assessment—AK

n. Reindeer grazing—AK

o. Road repair

p. Solid waste collection and disposal

q. Trail rehabilitation

2. Special Programs. Aspects of these programs may be available if a self-governance tribe demonstrates a geographical, cultural, or historical connection.

a. Beringia Research

b. Elwha River Restoration

3. Locations of National Park System Unites in Close Proximity to Self-Governance Tribes. Aspects of ongoing programs and activities may be available at park units with known geographic, cultural, or historical connections with a self-governance tribe.

a. Lake Clark National Park and Preserve—AK

b. Katmai National Park and Preserve—AK

c. Glacier Bay National Park and Preserve—AK

d. Sitka National Historical Park—AK

e. Kenai Fjords National Park—AK

f. Wrangell-St. Elias National Park & Preserve—AK

g. Bering Land Bridge National Park—AK

h. Northwest Alaska Areas—AK

i. Gates of the Arctic National Park & Preserve—AK

j. Yukon Charlie Rivers National Preserve—AK

k. Casa Grande Ruins National Monument—AZ

l. Joshua Tree National Park—CA

m. Redwoods National Park—CA

n. Whiskeytown National Recreation Area—CA

o. Hagerman Fossil Beds National Monument—ID

p. Sleeping Bear Dunes National Lakeshore—MI

q. Voyageurs National Park—MI

r. Grand Portage National Monument—MN

s. Bear Paw Battlefield, Nez Perce National Historical Park—MT

t. Glacier National Park—MT

u. Great Basin National Park—NV

v. Bandelier National Monument—NM

w. Hopewell Culture National Historical Park—OK

x. Chickasaw National Recreation Area—OK

y. Effigy Mounds National Monument—IA

z. Olympic National Park—WA

a-1. San Juan Islands National Historic Park—WA

b-1. Mt Rainier National Park—WA

c-1. Ebey's Landing National Historical Reserve—WA

For questions regarding self-governance contact Dr. Patricia Parker, Chief, American Indian Liaison Office, National Park Service (MS-3410), 1849 C Street NW. Washington, DC 20240-0001; telephone: (202) 208-5475, fax: (202) 273-0870.

E. Eligible Programs of the Office of Surface Mining and Reclamation Enforcement (OSM)

OSM regulates surface coal mining and reclamation operations, and reclaims abandoned coal mines, in cooperation with States and Indian tribes.

1. Abandoned Mine Land Reclamation Program. This program which restores eligible lands mined and abandoned or left inadequately restored is available to Indian tribes.

2. Control of the Environmental Impacts of Surface Coal Mining. This program includes analyses, NEPA documentation, technical reviews, and studies. Where surface coal mining exists on Indian land, certain regulatory activities that are not inherently Federal are available to Indian tribes.

For questions regarding self-governance contact Maria Mitchell, Office of Surface Mining Reclamation and Enforcement (MS-210-SIB), 1951 Constitution Ave. NW., Washington, DC 20240, telephone: (202) 208-2865, fax: (202) 291-3111.

F. Eligible Programs of the U.S. Fish and Wildlife Service (FWS)

The mission of FWS is to conserve, protect, and enhance fish, wildlife, and their habitats for the continuing benefit of the American people. Primary responsibilities are for migratory birds, endangered species, freshwater and anadromous fisheries, and certain marine mammals. FWS also has a continuing cooperative relationship with a number of Indian tribes throughout the National Wildlife Refuge System and the Service's fish hatcheries. Any self-governance tribe may contact a National Wildlife Refuge or National Fish Hatchery directly concerning participation in Service programs under the Self-Governance Act.

Some elements of the following programs may be eligible for inclusion in a self-governance annual funding agreement. The listing below was developed considering the proximity of an identified self-governance tribe to a National Wildlife Refuge or National Fish Hatchery, and the types of programs that have components that may be suitable for contracting through a self-governance annual funding agreement. This listing is not all-inclusive but is representative of the types of programs which may be eligible for tribal participation through an annual funding agreement.

1. Subsistence Programs Within Alaska

2. Fish & Wildlife Technical Assistance, Restoration & Conservation

a. Fish & wildlife population surveys

b. Habitat surveys

c. Sport fish restoration

d. Capture of depredating migratory birds

e. Fish & wildlife program planning

f. Habitat restoration activities

3. Endangered Species Program

a. Cooperative management of conservation programs

b. Development and implementation of recovery plans

c. Conducting status surveys for high priority candidate species

d. Participation in the development of habitat conservation plans, as appropriate

Education Programs

a. Interpretation

b. Outdoor classrooms

c. Visitor center operations

d. Volunteer coordination efforts on- and off-refuge

Environmental Contaminants Program

a. Analytical devices

b. Removal of underground storage tanks

c. Specific cleanup activities

d. Natural resource economic analysis

e. Specific field data gathering efforts

Hatchery Operations

a. Egg taking

b. Rearing/feeding

c. Disease treatment

d. Tagging

e. Clerical/facility maintenance

7. Wetland & Habitat Conservation and Restoration

a. Construction

b. Planning activities

c. Habitat monitoring and management

8. Conservation Law Enforcement

All law enforcement efforts under cross-deputization

9. National Wildlife Refuge Operations & Maintenance

a. Construction

b. Farming

c. Concessions

d. Maintenance

e. Comprehensive management planning

f. Biological program efforts

g. Habitat management

h. Fire Management

Locations of Refuges and Hatcheries With Close Proximity to Indian Tribes

1. Alaska National Wildlife Refuges—AK

2. Alchesay National Fish Hatchery—AZ

3. Humboldt Bay National Wildlife Refuge—CA

4. Kootenai National Wildlife Refuge—ID

5. Agassiz National Wildlife Refuge—MN

6. Mille Lacs National Wildlife Refuge—MN

7. Rice Lake National Wildlife Refuge—MN

8. National Bison Range—MT

9. Ninepipe National Wildlife Refuge—MT

10. Pablo National Wildlife Refuge—MT

11. Mescalero National Fish Hatchery—NM

12. Sequoyah National Wildlife Refuge—OK

13. Tishomingo National Wildlife Refuge—OK

14. Bandon Marsh National Wildlife Refuge—OR

15. Dungeness National Wildlife Refuge—WA

16. Makah National Fish Hatchery—WA

17. Nisqually National Wildlife Refuge—WA

18. Quinault National Fish Hatchery—WA

19. San Juan Islands National Wildlife Refuge—WA

For questions regarding self-governance contact Patrick Durham, Fish and Wildlife Service (MS3012), 1849 C Street NW., Washington, DC 20240-0001, telephone: (202) 208-4133, fax: (202) 208-7407.

G. Eligible Programs of the U.S. Geological Survey (USGS)

The mission of the U.S. Geological Survey is to provide information on biology, geology, hydrology, and cartography that contributes to the wise management of the nation's natural resources and to the health, safety, and well-being of the American people. Information includes maps, data bases, and descriptions and analyses of the water, plants, animals, energy, and mineral resources, land surface, underlying geologic structure and dynamic processes of the earth. Information on these scientific issues is developed through extensive research, field studies, and comprehensive data collection to: evaluate natural hazards such as earthquakes, volcanoes, landslides, floods, droughts, subsidence and other ground failures; assess energy, mineral, and water resources in terms of their quality, quantity, and availability; evaluate the habitats of animals and plants; and produce geographic, cartographic, and remotely-sensed information in digital and non-digital formats. No USGS programs are specifically available to American Indians or Alaska Natives because of their status as Indians/Natives. Components of programs may have a special geographic, cultural, or historical connection with a self-governance tribe.

1. Mineral, Environmental, and Energy Assessments. Components of this program that involve geologic research, data acquisition, and predictive modeling may be available for inclusion in an annual funding agreement.

2. USGS Earthquake Hazards Reduction Program. Components of this program that involves research, data acquisition, and modeling related to earthquakes and seismically active areas may be available for inclusion in an annual funding agreement.

3. Water Resources Data Collections and Investigations. Components of this program may be available for inclusion in an annual funding agreement if a self-governance tribe demonstrates a special geographic, cultural, or historical connection.

4. Biological Resources Inventory, Monitoring, Research and Information Transfer Activities. Components of this program may be available for inclusion in an annual funding agreement if a self-governance tribe demonstrates a special geographic, cultural or historical connection.

For questions regarding self-governance contact Sue Marcus, American Indian/Alaska Native Liaison, U.S. Geological Survey, 107 National Center, Reston, VA 20192, telephone: (703) 648-4437, fax: (703) 648-5470.

IV. Programmatic Targets

During Fiscal Year 2002, upon request of a self-governance tribe each non-BIA bureau will negotiate annual funding agreements for its eligible programs beyond those already negotiated.

Dated: January 17, 2001.
William A. Sinclair,
Director, Office of Self-Governance.

[FR Doc. 01-1884 Filed 1-22-01; 8:45 am]

BILLING CODE 4310-10-M